FEDERAL COMMUNICATIONS COMMISSION

[FR ID 80999]

Radio Broadcasting Services; AM or FM Proposals To Change the Community of License

AGENCY: Federal Communications Commission.

ACTION: Notice.

DATES: The agency must receive comments on or before June 7, 2022.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: CHRISTOPHER W JOHNSON, WAMI(AM); Fac. ID No. 66212, FROM OPP, AL, TO JACKSON'S GAP, AL, File No. BP-20220318AAI; IHM LICENSES, LLC, KVDU(FM), Fac. ID No. 34528, FROM HOUMA, LA, TO GONZALES, LA, File No. 0000187347; KENNEDY BROADCASTING, LLC, NEW(FM), Fac. ID No. 762447, FROM NEW ALBANY, MS, TO BRUCE, MS, File No. 0000186755; QBS BROADCASTING, LLC, WBQO(FM), Fac. ID No. 191581, FROM ST. SIMONS ISLAND, GA, TO DARIEN, GA, File No. 0000185843; CALL COMMUNICATIONS GROUP, INC., WMFL(FM), Fac. ID No. 61088, FROM FLORIDA CITY, FL, TO PALMETTO BAY, FL, File No. 0000186693; and GOLDEN ISLES BROADCASTING, LLC, WSSI(FM), Fac. ID. No. 36929, FROM DARIEN, GA, TO ST. SIMONS ISLAND, GA, File No. 0000185840. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2022-07508 Filed 4-7-22; 8:45 am]

BILLING CODE 6712-01-P